DEPARTMENT OF HEALTH AND HUMAN SERVICES

Administration for Children and Families

Proposed Information Collection Activity; Proposed Information Collection Activity, Temporary Assistance for Needy Families (TANF) Data Reporting for Work Participation (Office of Management and Budget #0970-0338)

AGENCY: Office of Family Assistance, Administration for Children and Families, United States Department of Health and Human Services.

ACTION: Request for public comments.

SUMMARY: The Administration for Children and Families (ACF) is requesting to extend approval of the Temporary Assistance for Needy Families (TANF) Data Reporting for Work Participation, with proposed revisions. Revisions are intended to improve the clarity of the instructions, streamline reporting, and ensure all instructions are up-to-date.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: This request includes the following information collections: work verification procedures, the Caseload Reduction Documentation Process, the TANF Data Report, the Separate State Program (SSP)-Maintenance of Effort (MOE) Data Report, and TANF sampling instructions. The data and information from these reports and processes are used—and will continue to be used—for program analysis and oversight, including the calculation and administration of the work participation rate and associated penalties. Congress provides federal funds to operate TANF programs in the states, the District of Columbia, Guam, Puerto Rico, the U.S. Virgin Islands, and for approved federally recognized tribes and Alaskan Native Villages. We are proposing to continue the same information collections with only changes to instructions to improve clarity and eliminate data elements and guidance that are no longer relevant. The Work Verification Plan Guidance has been updated to incorporate further guidance that was published in 2006. The TANF and SSP-MOE Data Report instructions were revised to streamline the data collection, reduce the burden on respondents by eliminating unnecessary data elements, and clarify confusing data elements. The TANF and SSP-MOE Data Report layouts were also updated to reflect the streamlined instructions. The TANF Sample Manual was revised to eliminate outdated and unused sections.

Respondents: The 50 states of the U.S., the District of Columbia, Guam, Puerto Rico, and the U.S. Virgin Islands.

Annual Burden Estimates
Instrument | Total number of respondents | Annual number of responses per respondent | Average burden hours per response | Total annual burden hours
Work Verification Plan §§ 261.60-261.63 | 54 | 1 | 640 | 34,560
Caseload Reduction Documentation Process, ACF-202 §§ 261.41 & 261.44 | 54 | 1 | 120 | 6,480
Reasonable Cause/Corrective Compliance Documentation Process §§ 262.4, 262.6, & 262.7; § 261.51 | 54 | 2 | 240 | 25,920
TANF Data Report—Part 265 | 54 | 4 | 2,100 | 453,600
SSP-MOE Data Report—Part 265 | 29 | 4 | 714 | 82,824
TANF Sampling and Statistical Methods Manual Part 265.5 | 30 | 4 | 48 | 5,760

Estimated Total Annual Burden Hours: 609,144.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 601, 607, 609, 611, 613, and 1302.

Mary B. Jones,
ACF/OPRE Certifying Officer.

[FR Doc. 2023-13639 Filed 6-26-23; 8:45 am]

BILLING CODE 4184-36-P